DEPARTMENT OF COMMERCE

Foreign-Trade Zones Board

[Docket 15-2002]

Foreign-Trade Zone 78—Nashville, TN; Application for Expansion

An application has been submitted to the Foreign-Trade Zones Board (the Board) by the Metropolitan Government of Nashville and Davidson County, grantee of FTZ 78, requesting authority to expand its zone in the Nashville, Tennessee, area. The application was submitted pursuant to the provisions of the Foreign-Trade Zones Act, as amended (19 U.S.C. 81a-81u), and the regulations of the Board (15 CFR part 400). It was formally filed on February 8, 2002.

FTZ 78 was approved on April 2, 1982 (Board Order 190, 47 FR 16191, ­4/15/82) and expanded on February 18, 1999 (Board Order 1024, 64 FR 9472, ­2/26/99) and on October 24, 2000 (Board Order 1124, 65 FR 66231, 11/3/00). The zone currently consists of seven sites in the Nashville, Tennessee area: Site 1—(52,000 square feet) within a 200,000 square foot warehouse located at 750 Cowan Street, Nashville; Site 2—(57 acres) within the 2,000-acre Cockrill Bend Industrial Park, Nashville; Site 3—(400,000 square feet) located at 323 Mason Road, La Vergne; Site 4—(39 acres) Space Park North Industrial Park, 1000 Cartwright Street, Goodlettsville; Site 5—(19 acres) Old Stone Bridge Industrial Park, Old Stone Bridge, Goodlettsville; Site 6—(806 acres) located at Nashville International Airport, One Terminal Drive, Nashville; and, Site 7—(38 acres) located within the Eastgate Business Park at 3850 Eastgate Boulevard, Lebanon, and at a Temporary Site—(403,750 sq. ft.) located within the Eastgate Business Park at 7800 Eastgate Boulevard, Lebanon (expires 11/1/03).

The applicant is now requesting authority to expand Site 7 to include an additional parcel (41.5 acres) located within the Eastgate Business Park at 7800 Eastgate Boulevard in Lebanon. The facility will be operated by IEC Logistics as a public warehouse facility. The proposed expansion will also include the temporary site as part of Site 7 on a permanent basis. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Execuitve Secretary at one of the addresses:

1. Submissions via Express/Package Delivery Services: Foreign-Trade Zones Board, U.S. Department of Commerce, Franklin Court Building—Suite 4100W, 1099 14th Street NW, Washington, DC 20005; or,

2. Submissions via the U.S. Postal Service: Foreign-Trade Zones Board, U.S. Department of Commerce, FCB—Suite 4100W, 1401 Constitution Avenue NW, Washington, DC 20230.

The closing period for their receipt is April 16, 2002. Rebuttal comments in response to material submitted during the foregoing period may be submitted during the subsequent 15-day period (to May 1, 2002).

A copy of the application and accompanying exhibits will be available for public inspection at the Office of the Foreign-Trade Zones Board at the first address listed above and at the U.S. Department of Commerce, Export Assistance Center, Commerce Center Building, 211 Commerce Street, Third Floor, Suite 300, Nashville, TN 37201-1802.

Dated: February 8, 2002.
Dennis Puccinelli,
Executive Secretary.

[FR Doc. 02-3808 Filed 2-14-02; 8:45 am]

BILLING CODE 3510-DS-P